ENVIRONMENTAL PROTECTION AGENCY

[FRL-7380-3]

The Metal Finishing Facility Risk Screening Tool (MFFRST): Technical Documentation and User's Guide

AGENCY: Environmental Protection Agency.

ACTION: Notice of availability of final document and CD-ROM.

SUMMARY: The U.S. Environmental Protection Agency (EPA) announces the availability of a final document, The Metal Finishing Facility Risk Screening Tool (MFFRST): Technical Documentation and User's Guide(EPA/600/R-01/057, July 2001) and a CD-ROM of the same title (EPA/600/C-01/057), prepared by the National Center for Environmental Assessment-Washington (NCEA-Washington), within the Office of Research and Development of the EPA. The CD-ROM includes an electronic version of the technical document and user's guide, as well as the pc-based software product titled, MFFRST. The pc-based software tool allows an individual to evaluate the potential exposures and health risks to workers and nearby residents from emissions from individual metal finishing facilities, using commonly available EPA procedures. Emissions into the air (from stacks to the outdoor environment and fugitive emissions from indoor sources) from routine operations are the only emissions considered in MFFRST. Further research efforts have been initiated to evaluate other waste streams—including wastewater and sludge.

ADDRESSES: This pc-based software tool and the accompanying technical support document and User's Guide are being made available electronically from the NCEA Web site at http://www.epa.gov/ncea/mffrst.htm. A limited number of the CD-ROMs will be available from EPA's National Service Center for Environmental Publications (NSCEP) in Cincinnati, Ohio (telephone: 1-800-490-9198 or 513-489-8190; facsimile 513-489-8695; or via the internet at http://www.epa.gov/NCEPIhome/orderpub.html). Please provide the title and EPA number when ordering from NSCEP.

FOR FURTHER INFORMATION CONTACT: For further information, please contact Matthew Lorber (202-564-3243); mailing address: NCEA-W (8623D), U.S. Environmental Protection Agency, Washington, DC 20460; facsimile: 202-565-0079; e-mail lorber.matthew@epa.gov.

Dated: September 9, 2002.
Art Payne,
Acting Director, National Center for Environmental Assessment.

[FR Doc. 02-23807 Filed 9-18-02; 8:45 am]

BILLING CODE 6560-50-P